FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 5, 2024.

A. Federal Reserve Bank of Kansas City Jeffrey Imgarten, Assistant Vice President, One Memorial Drive, Kansas City, Missouri 64198-0001. Comments can also be sent electronically to KCApplicationComments@kc.frb.org:

1. The Gary and Dixie Beymer Trust, Gary Beymer and Dixie Beymer, as co-trustees, all of Lakin, Kansas; the Robert Beymer Revocable Trust dtd 02/24/2022, Robert Beymer as trustee, the Diane Beymer Credit Shelter Trust, Robert Beymer as trustee, all of Garden City, Kansas; C. Easton Beymer, Kingwood, Texas; Blake Beymer, Holcomb, Kansas; Brick Beymer and Michelle Thompson (née Beymer), both of Lakin, Kansas; Caitlin Orcutt (née Beymer), Milliken, Colorado; and Taryn Remey (née Beymer), McPherson, Kansas; to form the Beymer Family Control Group, a group acting in concert, to retain voting shares of Lakin Bancshares, Inc., and thereby indirectly retain voting shares of the KCB Bank, both of Lakin, Kansas.

Board of Governors of the Federal Reserve System.
Erin M. Cayce,
Assistant Secretary of the Board.

[FR Doc. 2023-28035 Filed 12-20-23; 8:45 am]

BILLING CODE P